DEPARTMENT OF THE INTERIOR

Minerals Management Service

Agency Information Collection Activities: Submitted for Office of Management and Budget (OMB) Review; Comment Request

AGENCY: Minerals Management Service (MMS), Interior.

ACTION: Notice of information collection.

SUMMARY: To comply with the Paperwork Reduction Act of 1995 (PRA), we are submitting to OMB for review and approval an information collection request (ICR) for a new “Form MMS-144, Rig Movement Notification Report” for reporting rig movement information. We are also soliciting comments from the public on this ICR.

DATES: Submit written comments by April 29, 2002.

ADDRESSES: You may submit comments directly to the Office of Information and Regulatory Affairs, OMB, Attention: Desk Officer for the Department of the Interior (1010-XXXX), 725 17th Street, NW., Washington, DC 20503. Mail or hand carry a copy of your comments to the Department of the Interior, Minerals Management Service, Attention: Rules Processing Team, Mail Stop 4024, 381 Elden Street; Herndon, Virginia 20170-4817.

FOR FURTHER INFORMATION CONTACT: Alexis London, Rules Processing Team, telephone (703) 787-1600. You may also contact Alexis London to obtain a copy at no cost of the form MMS-144.

SUPPLEMENTARY INFORMATION: Title: Form MMS-144, Rig Movement Notification Report.

OMB Control Number: 1010-XXXX.

Abstract: The Outer Continental Shelf (OCS) Lands Act (Act), as amended (43 U.S.C. 1331 et seq. and 43 U.S.C. 1801 et seq.), authorizes the Secretary of the Interior to prescribe rules and regulations to administer leasing of the OCS. Such rules and regulations will apply to all operations conducted under a lease. Operations on the OCS must preserve, protect, and develop oil and natural gas resources in a manner which is consistent with the need to make such resources available to meet the Nation's energy needs as rapidly as possible; to balance orderly energy resource development with protection of human, marine, and coastal environments; to ensure the public a fair and equitable return on the resources of the OCS; and to preserve and maintain free enterprise competition. Section 1332(6) of the Act requires that “operations in the [O]uter Continental Shelf should be conducted in a safe manner by well-trained personnel using technology, precautions, and techniques sufficient to prevent or minimize the likelihood of blowouts, loss of well control, fires, spillages, physical obstruction to other users of the waters or subsoil and seabed, or other occurrences which may cause damage to the environment or to property, or endanger life or health.”

This ICR concerns regulations in 30 CFR 250 subparts D, E, and F, and specifically in §§ 401(g), 502, and 602, on the movement of drilling, completion, and workover rigs and related equipment on and off an offshore platform or from well to well on the same offshore platform. Although the requirement for operators to notify MMS of rig movements is not specifically stated in the referenced sections, since MMS is mandated to perform timely inspections on rigs and platforms, we must have accurate information with regard to their location on the OCS. We use this information in scheduling inspections with regard to priority and cost effectiveness.

Operators have filed rig movement reports for many years. Presently, the MMS Gulf of Mexico OCS Region (GOMR) requires an operator to inform us of rig arrival and departure times as conditions of approval for Applications for Permit to Drill (drilling) and Sundry Notices (completion, workover, and abandonment). In reporting a rig movement, respondents will generally fax the information or leave a telephone message. The current regulations do not specifically state what information MMS needs, and MMS has not issued standard instructions on what to report. Therefore, in many cases, the respondents have not provided sufficient information for MMS to identify data with regard to location, rig type, and well operation. This then requires follow-up telephone calls or messages to the respondent to obtain the needed information. The proposed form MMS-144 will give MMS the proper information.

Each MMS District Office conducts inspections and uses helicopters to transport inspectors from rig to rig. As the major duty of approximately one-half of the personnel in those offices is to perform inspections on the OCS, and with helicopter usage being a major cost item ($450 to $520 per hour) in their budget, proper scheduling is an extremely important issue. In many cases, due to inaccurate information, the current non-standard format for rig movement reporting has resulted in unnecessary increased inspection flight time (and higher costs) and loss of inspector man-hours.

Because of the volume of activity in the GOMR, to avoid these recurring problems, that Region has developed a new form MMS-144, “Rig Movement Notification Report.” The MMS District Offices will use the information reported to accurately ascertain the arrival and departure of all rigs in OCS waters and to verify compliance with approved permits. It is reiterated that only the form is new, not the reporting requirement.

The OMB has approved the rig movement notice with the other information collection requirements of the 30 CFR 250, subparts D, E, and F regulations (1010-0053, 1010-0067, and 1010-0043). Also, OMB approved this reporting notification in the pending revised subpart D proposed (§ 250.404) regulations (1010-0141). Responses are mandatory. No questions of a “sensitive” nature are asked, and no proprietary information is involved.

Frequency: The frequency is “on occasion.”

Estimated Number and Description of Respondents: Approximately 130 Federal OCS oil and gas lessees.

Estimated Annual Reporting and Recordkeeping “Hour” Burden: We estimate the average hour burden is 6 minutes to complete form MMS-144. MMS receives approximately 1,800 notices each year, for an estimated 180 annual burden hours.

Estimated Annual Reporting and Recordkeeping “Non-Hour Cost” Burden: We have identified no “non-hour cost” burden associated with form MMS-144.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information. * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on March 1, 2001, we published a Federal Register notice (66 FR 12955) announcing that we would submit the ICR to OMB for approval. The notice provided the required 60-day comment period. We received three requests for copies of the new form, but only one follow-up comment/request for clarification. The commenter asked if the form addressed the needs of the U.S. Coast Guard (USCG) and Defense Mapping Agency and whether the form would be used to report a rig skid to a new well on the same platform in lieu of the informal telephone notification. In response, the GOMR explained that the form would replace the current informal telephone notification to MMS, not duplicate it.

As a result of comments and discussions with representatives of the Offshore Operators Committee (an industry consortium) on the proposed form, we have included certain “optional” data elements. These were added so that respondents will have the option of also sending the MMS form to the USCG. If notification of a particular rig movement only needs to be reported to MMS, these optional data elements need not be completed by the lessee/operator.

If you wish to comment in response to this notice, send your comments directly to the offices listed under the ADDRESSES section of this notice. The OMB has up to 60 days to approve or disapprove the information collection but may respond after 30 days. Therefore, to ensure maximum consideration, OMB should receive public comments by April 29, 2002.

Public Comment Policy: Our practice is to make comments, including names and home addresses of respondents, available for public review during regular business hours. Individual respondents may request that we withhold their home address from the record, which we will honor to the extent allowable by the law. There may be circumstances in which we would withhold from the record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

MMS Information Collection Clearance Officer: Jo Ann Lauterbach, (202) 208-7744.

Dated: March 5, 2002.
E.P. Danenberger,
Chief, Engineering and Operations Division.

[FR Doc. 02-7384 Filed 3-27-02; 8:45 am]

BILLING CODE 4310-MR-P